NATIONAL FOUNDATION ON THE ARTS AND THE HUMANITIES

National Endowment for the Arts

National Council on the Arts 215th Meeting

AGENCY: National Endowment for the Arts, National Foundation on the Arts and Humanities.

ACTION: Notice of meeting.

SUMMARY: Pursuant to the Federal Advisory Committee Act, as amended, notice is hereby given that a meeting of the National Council on the Arts will be held open to the public by videoconference. An additional session will be closed to the public for reasons stated in the SUPPLEMENTARY INFORMATION section in this document.

DATES: May 1, 2025. See the SUPPLEMENTARY INFORMATION section for meeting time. The meeting will occur in Eastern time and the ending time is approximate.

ADDRESSES: The National Endowment for the Arts, Constitution Center, 400 Seventh Street SW, Washington, DC 20560. This meeting will be held by videoconference. Public portions of the meeting will be webcast. Please see arts.gov for the most up-to-date information.

FOR FURTHER INFORMATION CONTACT: Liz Auclair, Office of Public Affairs, National Endowment for the Arts, Washington, DC 20506, at 202/682-5744.

SUPPLEMENTARY INFORMATION: The meeting will take place on May 1, 2025.

Open Session: May 1, 2025; 2:00 p.m. to 3:00 p.m. Location: Videoconference. There will be a discussion of general agency business. This session will be held open to the public by videoconference. To view the webcasting of this session of the meeting, go to: https://www.arts.gov/. If you need special accommodations due to a disability, please contact Beth Bienvenu, Office of Accessibility, National Endowment for the Arts, Constitution Center, 400 7th St. SW, Washington, DC 20506, 202/682-5733, Voice/T.T.Y. 202/682-5496, at least seven (7) days prior to the meeting. If, in the course of the open session discussion, it becomes necessary for the Council to discuss non-public commercial or financial information of intrinsic value, the Council will go into closed session pursuant to subsection (c)(4) of the Government in the Sunshine Act, 5 U.S.C. 552b, and in accordance with the March 11, 2022, determination of the Chair. Additionally, discussion concerning purely personal information about individuals, such as personal biographical and salary data or medical information, may be conducted by the Council in closed session in accordance with subsection (c)(6) of 5 U.S.C. 552b.

Closed Session: May 1, 2025; 12:00 p.m. to 1:00 p.m. Location: Videoconference. This meeting session will be closed to the public for the aforementioned reasons.

Dated: April 10, 2025.
David Travis,
Specialist, Office of Guidelines and Panel Operations.

[FR Doc. 2025-06398 Filed 4-16-25; 8:45 am]

BILLING CODE 7537-01-P